RAILROAD RETIREMENT BOARD

Agency Forms Submitted for OMB Review, Request for Comments

Summary: In accordance with the Paperwork Reduction Act of 1995 (44 U.S.C. chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Claimant Appeal Under the Railroad Retirement Act or and Railroad Unemployment Insurance Act; OMB 3220-0007.

Under Section 7(b)(3) of the Railroad Retirement Act (RRA) (45 U.S.C. 231f), and Section 5(c) of the Railroad Unemployment Insurance Act (RUIA) (45 U.S.C. 355) any person aggrieved by a decision made by an office of the RRB on his or her application for an annuity or benefit under those Acts has the right to appeal to the RRB. This right is prescribed in 20 CFR 260 and 20 CFR 320. The notification letter, which is provided at the time of filing the original application, informs the applicant of such right. When an applicant protests a decision, the concerned RRB office reviews the entire file and any additional evidence submitted and sends the applicant a letter explaining the basis of the determination. The applicant is then notified that to protest further, they can appeal to the RRB's Bureau of Hearings and Appeals. The appeal process is prescribed in 20 CFR 260.5 and 260.9 and 20 CFR 320.12 and 320.38.

To file a request for an appeal the applicant must complete Form HA-1, Appeal Under the Railroad Retirement Act or Railroad Unemployment Insurance Act. The form asks the applicant to explain the basis for their request for an appeal and, if necessary, to describe any additional evidence they wish to submit in support of the appeal. Completion is voluntary, however, if the information is not provided the RRB cannot process the appeal.

Previous Requests for Comments: The RRB has already published the initial 60-day notice (86 FR 21361 on April 22, 2021) required by 44 U.S.C. 3506(c)(2). That request elicited no comments.

Information Collection Request (ICR)

Title: Claimant Appeal Under the Railroad Retirement Act or Railroad Unemployment Insurance Act.

OMB Control Number: 3220-0007.

Form(s) submitted: HA-1.

Type of request: Revision of a currently approved collection.

Affected public: Individuals or Households.

Abstract: Under Section 7(b)(3) of the Railroad Retirement Act and Section 5(c) of the Railroad Unemployment Insurance Act, a person aggrieved by a decision on his or her application for an annuity or other benefit has the right to appeal to the RRB. The collection provides the means for the appeal action.

Changes proposed: The RRB proposes minor changes to Form HA-1 to the reference citation and minor grammar on page 2.

The burden estimate for the ICR is as follows:

Form No. | Annual responses | Time (minutes) | Burden (hours)
HA-1 | 550 | 20 | 183

2. Title and purpose of information collection: Application for Benefits Due But Unpaid at Death; OMB 3220-0055.

Under Section 2(g) of the Railroad Unemployment Insurance Act (45 U.S.C. 352), benefits that accrued but were not paid because of the death of the employee shall be paid to the same individual(s) to whom benefits are payable under Section 6(a)(1) of the Railroad Retirement Act. The provisions relating to the payment of such benefits are prescribed in 20 CFR 325.5 and 20 CFR 335.5.

The RRB provides Form UI-63, Application for Benefits Due But Unpaid at Death, to those applying for the accrued sickness or unemployment benefits unpaid at the death of the employee and for obtaining the information needed to identify the proper payee. One response is requested of each respondent. Completion is required to obtain a benefit.

Previous Requests for Comments: The RRB has already published the initial 60-day notice (86 FR 21361 on April 22, 2021) required by 44 U.S.C. 3506(c)(2). That request elicited no comments.

Information Collection Request (ICR)

Title: Application for Benefits Due but Unpaid at Death.

OMB Control Number: 3220-0055.

Form(s) submitted: UI-63.

Type of request: Extension without change of a currently approved collection.

Affected public: Individuals or Households.

Abstract: The collection obtains the information needed by the Railroad Retirement Board to pay benefits accrued under section 2(g) of the Railroad Unemployment Insurance Act, but not paid because of the death of the employee.

Changes proposed: The RRB proposes no changes to Form UI-63.

The burden estimate for the ICR is as follows:

Form No. | Annual responses | Time (minutes) | Burden (hours)
UI-63 | 24 | 7 | 3

3. Title and purpose of information collection: Medicare; OMB 3220-0082.

Under Section 7(d) of the Railroad Retirement Act (RRA) (45 U.S.C. 231f), the Railroad Retirement Board (RRB) administers the Medicare program for persons covered by the railroad retirement system. The RRB uses Form AA-6, Employee Application for Medicare; Form AA-7, Spouse/Divorced Spouse Application for Medicare; and Form AA-8, Widow/Widower Application for Medicare; to obtain the information needed to determine whether individuals who have not yet filed for benefits under the RRA are qualified for Medicare payments provided under Title XVIII of the Social Security Act.

Further, in order to determine if a qualified railroad retirement beneficiary who is claiming supplementary medical insurance coverage under Medicare is entitled to a Special Enrollment Period (SEP) and/or premium surcharge relief because of coverage under an Employer Group Health Plan (EGHP), the RRB needs to obtain information regarding the claimant's EGHP coverage, if any. The RRB uses Form RL-311-F, Evidence of Coverage Under An Employer Group Health Plan, to obtain the basic information needed to establish EGHP coverage for a qualified railroad retirement beneficiary.

Completion of the forms is required to obtain a benefit. One response is requested of each respondent.

Previous Requests for Comments: The RRB has already published the initial 60-day notice (86 FR 21361 on April 22, 2021) required by 44 U.S.C. 3506(c)(2). That request elicited no comments.

Information Collection Request (ICR)

Title: Medicare.

OMB Control Number: 3220-0082.

Form submitted: AA-6, AA-7, AA-8 and RL-311-F.

Type of request: Revision of a currently approved collection.

Affected public: Individuals or Households; Businesses or other for profits.

Abstract: The Railroad Retirement Board administers the Medicare program for persons covered by the railroad retirement system. The forms in the collection obtain both information needed to enroll non-retired employees and survivor applicants in the plan and information from railroad employers needed to determine if a railroad retirement beneficiary is entitled to a special enrollment period when applying for supplemental medical coverage under Medicare.

Changes proposed: The RRB proposes no changes to the forms AA-6, AA-7, or AA-8. The RRB proposed the following changes to Form RL-311-F:

• Add the option to return the form by facsimile.

• Changed question 4 to replace working with employed, add an employment start date for the employee, and add additional instructions.

The burden estimate for the ICR is as follows:

Form No. | Annual responses | Time (minutes) | Burden (hours)
AA-6 | 180 | 8 | 24
AA-7 | 50 | 8 | 7
AA-8 | 10 | 8 | 1
RL-311-F | 2,000 | 10 | 333
Total | 2,240 |  | 365

4. Title and purpose of information collection: Request to Non-Railroad Employer for Information About Annuitant's Work and Earnings; OMB 3220-0107.

Under Section 2 of the Railroad Retirement Act (RRA) (45 U.S.C. 231a), a railroad employee's retirement annuity or an annuity paid to the spouse of a railroad employee is subject to work deductions in the Tier II component of the annuity and any employee supplemental annuity for any month in which the annuitant works for a Last Pre-Retirement Non-Railroad Employer (LPE). The LPE is defined as the last person, company, or institution, other than a railroad employer, that employed an employee or spouse annuitant. In addition, the employee, spouse, or divorced spouse Tier I annuity benefit is subject to work deductions under Section 2(f)(1) of the RRA for earnings from any non-railroad employer that are over the annual exempt amount. The regulations pertaining to non-payment of annuities by reason of work and LPE are contained in 20 CFR 230.1 and 230.2.

The RRB utilizes Form RL-231-F, Request to Non-Railroad Employer for Information About Annuitant's Work and Earnings, to obtain the information needed to determine if a work deduction should be applied because an annuitant worked in non-railroad employment after the annuity beginning date. One response is requested of each respondent. Completion is voluntary.

Previous Requests for Comments: The RRB has already published the initial 60-day notice (86 FR 21362 on April 22, 2021) required by 44 U.S.C. 3506(c)(2). That request elicited no comments.

Information Collection Request (ICR)

Title: Request to Non-Railroad Employer for Information About Annuitant's Work and Earnings.

OMB Control Number: 3220-0107.

Form(s) submitted: RL-231-F.

Type of request: Extension without change of a currently approved collection.

Affected public: Private Sector; Businesses or other for-profits, Not-for-profit institutions.

Abstract: Under the Railroad Retirement Act (RRA), benefits are not payable if an annuitant works for an employer covered under the RRA or last non-railroad employer. The collection obtains information regarding an annuitant's work and earnings from a non-railroad employer. The information is used to determine whether benefits should be withheld.

Changes proposed: The RRB proposes no changes to Form RL-231-F.

The burden estimate for the ICR is as follows:

Form No. | Annual responses | Time (minutes) | Burden (hours)
RL-231-F | 300 | 30 | 150

5. Title and Purpose of information collection: Annual Earnings Questionnaire for Annuitants in Last Pre-Retirement Non-Railroad Employment; OMB 3220-0179.

Under Section 2(e)(3) of the Railroad Retirement Act (RRA) (45 U.S.C. 231a), an annuity is not payable for any month in which a beneficiary works for a railroad. In addition, an annuity is reduced for any month in which the beneficiary works for an employer other than a railroad employer and earns more than a prescribed amount. Under the 1988 amendments to the RRA, the Tier II portion of the regular annuity and any supplemental annuity must be reduced by one dollar for each two dollars of Last Pre-Retirement Non-Railroad Employment (LPE) earnings for each month of such service. However, the reduction cannot exceed 50 percent of the Tier II and supplemental annuity amount for the month to which such deductions apply. The LPE generally refers to an annuitant's last employment with a non-railroad person, company, or institution prior to retirement, which was performed at the same time as railroad employment or after the annuitant stopped railroad employment. The collection obtains earnings information needed by the RRB to determine if possible reductions in annuities are in order due to LPE.

The RRB utilizes Form G-19L, Annual Earnings Questionnaire, to obtain LPE earnings information from annuitants. One response is requested of each respondent. Completion is required to retain a benefit.

Previous Requests for Comments: The RRB has already published the initial 60-day notice (86 FR 21362 on April 22, 2021) required by 44 U.S.C. 3506(c)(2). That request elicited no comments.

Information Collection Request (ICR)

Title: Annual Earnings Questionnaire for Annuitants in Last Pre-Retirement Non-Railroad Employment.

OMB Control Number: 3220-0179.

Form submitted: G-19L.

Type of request: Extension without change of a currently approved collection.

Affected public: Individuals or Households.

Abstract: Under Section 2(e)(3) of the Railroad Retirement Act, an annuity is not payable or is reduced for any month in which the beneficiary works for a railroad or earns more than the prescribed amounts. The collection obtains earnings information needed by the Railroad Retirement Board to determine possible reductions in annuities because of earnings.

Changes proposed: The RRB proposes no changes to Form G-19L.

The burden estimate for the ICR is as follows:

Form No. | Annual responses | Time (minutes) | Burden (hours)
G-19L | 300 | 15 | 75

Additional Information or Comments: Copies of the forms and supporting documents can be obtained from Kennisha Tucker at (312) 469-2591 or Kennisha.Tucker@rrb.gov. Comments regarding the information collection should be addressed to Brian Foster, Railroad Retirement Board, 844 North Rush Street, Chicago, Illinois, 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2021-13666 Filed 6-25-21; 8:45 am]

BILLING CODE 7905-01-P